DEPARTMENT OF STATE

[Public Notice 4140]

Bureau of Educational and Cultural Affairs Request for Grant Proposals: Educational Information Centers in Eurasia

Summary: The Office of Global Educational Programs, Educational Information and Resources Branch of the Bureau of Educational and Cultural Affairs announces an open competition for Educational Information Centers in Eurasia. Public and private non-profit organizations meeting the provisions described in Internal Revenue Code section 26 USC 501(c)(3) may submit proposals to operate educational information centers in the following cities in Eurasia: Yerevan, Armenia; Baku, Azerbaijan; Minsk, Belarus; Tbilisi, Georgia; Almaty and Astana, Kazakhstan; Bishkek, Kyrgyz Republic; Chisinau, Moldova; Moscow, Novosibirsk, St. Petersburg, and Vladivostok, Russia; Dushanbe, Tajikistan; Ashgabat, Turkmenistan; Kiev, Ukraine; and Tashkent, Uzbekistan. The educational information centers would be a part of the network of approximately 450 Department of State-affiliated centers worldwide. These centers provide comprehensive and unbiased information to interested students, scholars, and other individuals about study opportunities in the U.S.

Program Information

Overview

The education information centers in Eurasia must provide access to comprehensive and unbiased information about study opportunities in the U.S. Services provided by the centers must include group informational sessions as well as individual advising. The centers should provide accurate information and advising on the following topics: all accredited U.S. colleges, universities, and other higher education institutions; accreditation issues; the application process to a U.S. university; majors and fields of study; testing requirements; life in the U.S.; scholarship programs and financial aid; visa requirements, and pre-departure orientation. Centers should also provide information on grant opportunities sponsored by the USG and other institutions and organizations. The Bureau will provide a selection of reference books and materials to each center. Educational advisers at the centers will be eligible to apply for Bureau-sponsored professional development opportunities and training events.

Guidelines

Pending availability of funds, the period of this grant is January 1, 2003 to December 31, 2003. Final awards cannot be made until funds have been appropriated by Congress, allocated and committed through internal Bureau procedures. Please refer to Solicitation Package for further information.

Budget Guidelines

Grants awarded to eligible organizations with less than four years of experience in conducting international exchange programs will be limited to $60,000. The Bureau encourages applicants to provide maximum levels of cost-sharing and funding from private sources in support of its programs. Applicants must submit a comprehensive budget for each individual educational information center in the proposal. Applicants may submit a proposal for one, several, or all of the centers listed. Awards may not exceed the following amounts for each educational information center:

Yerevan, Armenia—$30,000;

Baku, Azerbaijan—$20,000;

Minsk, Belarus—$20,000;

Tbilisi, Georgia—$20,000;

Almaty, Kazakhstan—$22,000;

Astana, Kazakhstan—$17,000;

Bishkek, Kyrgyz Republic—$17,000;

Chisinau, Moldova—$12,000;

Moscow, Russia—$180,000;

Novosibirsk, Russia—$20,000;

St. Petersburg, Russia—$32,000;

Vladivostok, Russia—$20,000;

Dushanbe, Tajikistan—$15,000;

Ashgabat, Turkmenistan—$15,000;

Kiev, Ukraine—$50,000;

Tashkent, Uzbekistan—$25,000.

All administrative and indirect costs must be included in the maximum award amount for each center. The budgets must provide a breakdown of administrative and program costs. Allowable costs for the program include the following:

(1) Educational advising staff salaries and benefits;

(2) Office supplies and expenses, including rent, communications, postage and shipping;

(3) Outreach and publicity costs;

(4) Indirect costs.

Please refer to the Solicitation Package for complete budget guidelines and formatting instructions.

Announcement Title and Number

All correspondence with the Bureau concerning this RFGP should reference the above title and number ECA/A/S/A-03-07.

For Further Information, Contact: The Educational Information and Resources Branch, ECA/A/S/A, room 349, U.S. Department of State, 301 4th Street, SW., Washington, DC 20547, telephone: 202-619-4731, fax: 202-404-1433, http://exchanges.state.gov/education/educationusa to request a Solicitation Package. The Solicitation Package contains detailed award criteria, required application forms, specific budget instructions, and standard guidelines for proposal preparation. Please specify Bureau Program Officer Sharen Sheehan on all other inquiries and correspondence.

Please read the complete Federal Register announcement before sending inquiries or submitting proposals. Once the RFGP deadline has passed, Bureau staff may not discuss this competition with applicants until the proposal review process has been completed.

To Download a Solicitation Package via Internet

The entire Solicitation Package may be downloaded from the Bureau's Web site at http://exchanges.state.gov/education/RFGPs. Please read all information before downloading.

Deadline for Proposals

All proposal copies must be received at the Bureau of Educational and Cultural Affairs by 5 p.m. Washington, DC time on Thursday, October 31, 2002. Faxed documents will not be accepted at any time. Documents postmarked the due date but received on a later date will not be accepted. Each applicant must ensure that the proposals are received by the above deadline.

Applicants must follow all instructions in the Solicitation Package. The original and 5 copies of the application should be sent to: U.S. Department of State, SA-44, Bureau of Educational and Cultural Affairs, Ref.: ECA/A/S/A-03-07, Program Management, ECA/EX/PM, Room 534, 301 4th Street, SW., Washington, DC 20547.

Applicants must also submit the “Executive Summary” and “Proposal Narrative” sections of the proposal on a 3.5” diskette, formatted for DOS. These documents must be provided in ASCII text (DOS) format with a maximum line length of 65 characters. The Bureau will transmit these files electronically to the Public Affairs sections at the U.S. Embassies in Eurasia for their review.

Diversity, Freedom and Democracy Guidelines

Pursuant to the Bureau's authorizing legislation, programs must maintain a non-political character and should be balanced and representative of the diversity of American political, social, and cultural life. “Diversity” should be interpreted in the broadest sense and encompass differences including, but not limited to, ethnicity, race, gender, religion, geographic location, socio-economic status, and physical challenges. Applicants are strongly encouraged to adhere to the advancement of this principle both in program administration and in program content. Please refer to the review criteria under the 'Support for Diversity' section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106—113 requires that the governments of the countries described above do not have inappropriate influence in the selection process. Proposals should reflect advancement of these goals in their program contents, to the full extent deemed feasible.

Adherence to All Regulations Governing the J VISA

The Bureau of Educational and Cultural Affairs is placing renewed emphasis on the secure and proper administration of Exchange Visitor (J visa) Programs and adherence by grantees and sponsors to all regulations governing the J visa. Therefore, proposals should demonstrate the applicant's capacity to meet all requirements governing the administration of Exchange Visitor Programs as set forth in 22 CFR part 62, including the oversight of Responsible Officers and Alternate Responsible Officers, screening and selection of program participants, provision of pre-arrival information and orientation to participants, monitoring of participants, proper maintenance and security of forms, record-keeping, reporting and other requirements.

ECA will be responsible for issuing DS-2019 forms to participants in this program.

A copy of the complete regulations governing the administration of Exchange Visitor (J) programs is available at http://exchanges.state.gov or from: United States Department of State, Office of Exchange Coordination and Designation, ECA/EC/ECD—SA-44, Room 734, 301 4th Street, SW., Washington, DC 20547. Telephone: (202) 401-9810. FAX: (202) 401-9809.

Review Process

The Bureau will acknowledge receipt of all proposals and will review them for technical eligibility. Proposals will be deemed ineligible if they do not fully adhere to the guidelines stated herein and in the Solicitation Package. All eligible proposals will be reviewed by the program office, as well as the Public Diplomacy sections overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards grants resides with the Bureau's Grants Officer.

Review Criteria

Technically eligible applications will be competitively reviewed according to the criteria stated below. These criteria are not rank ordered and all carry equal weight in the proposal evaluation:

1. Ability To Achieve Program Objectives: Objectives should be reasonable, feasible, and flexible. Proposals should clearly demonstrate how the institution will meet the program's objectives and plan.

2. Support of Diversity: Proposals should demonstrate substantive support of the Bureau's policy on diversity. Achievable and relevant features should be cited in both program administration and program content.

3. Institutional Capacity: Proposed personnel and institutional resources should be adequate and appropriate to achieve the program or project's goals.

4. Institution's Record/Ability: Proposals should demonstrate an institutional record of successful international education programs, including responsible fiscal management and full compliance with all reporting requirements for past Bureau grants as determined by Bureau Grant Staff. The Bureau will consider the past performance of prior recipients and the demonstrated potential of new applicants.

5. Project Evaluation: Proposals should include a plan to evaluate the activity's success, both as the activities unfold and at the end of the program. A draft survey questionnaire or other technique plus description of a methodology to use to link outcomes to original project objectives is recommended. Successful applicants will be expected to submit intermediate reports after each project component is concluded or quarterly, whichever is less frequent.

6. Cost-Effectiveness: The overhead and administrative components of the proposal should be kept as low as possible. All other items should be necessary and appropriate. Proposals are encouraged to include a plan for cost-defrayment and income generation, where possible.

7. Cost-Sharing: Proposals should maximize cost-sharing through other private sector support as well as institutional direct funding contributions.

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” Partial funding for the program above is provided through the FREEDOM Support Act.

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: September 18, 2002.
C. Miller Crouch,
Principal Deputy Assistant Secretary, Bureau of Educational and Cultural Affairs, Department of State.

[FR Doc. 02-24476 Filed 9-25-02; 8:45 am]

BILLING CODE 4710-05-P